DEPARTMENT OF HEALTH AND HUMAN SERVICES

National Institutes of Health

Center for Scientific Review; Amended Notice of Meeting

Notice is hereby given of a change in the meeting of the Center for Scientific Review Special Emphasis Panel, July 9, 2003, 8 AM to July 9, 2003, 5 PM, Governor's House Hotel, 1615 Rhode Island Avenue, NW., Washington, DC, 20036, which was published in the Federal Register on June 23, 2003, 68 FR 37163-37166.

The meeting will be held at the St. Gregory Hotel, 2033 M Street, NW., Washington, DC, 20036. The meeting date and time remains the same. The meeting is closed to the public.

Dated: July 1, 2003.
LaVerne Y. Stringfield,
Director, Office of Federal Advisory Committee Policy.

[FR Doc. 03-17401 Filed 7-9-03; 8:45 am]

BILLING CODE 4140-01-M